DEPARTMENT OF AGRICULTURE

Forest Service

DEPARTMENT OF THE INTERIOR

National Park Service

Fish and Wildlife Service

Bureau of Land Management

Bureau of Reclamation

Notice of Availability—America the Beautiful—The National Parks and Federal Recreational Lands Pass, Federal Lands Recreation Enhancement Act, Public Law 108-447, Div. J, Title VII

AGENCY: USDA Forest Service; U.S. Department of the Interior, National Park Service, Fish and Wildlife Service, Bureau of Land Management, and Bureau of Reclamation, Office of the Secretary, Interior.

ACTION: Notice of Availability—America the Beautiful—The National Parks and Federal Recreational Lands Pass.

SUMMARY: Section 5 paragraph 3 of the Federal Lands Recreation Enhancement Act (REA) of December 2004 (16 U.S.C. 6804(a)(3)) requires that the Secretaries of Interior and Agriculture publish a notice in the Federal Register when the “America the Beautiful—the National Parks and Federal Recreational Lands Pass” is first established and available for purchase.

The new pass program was created in response to requirements of the REA. The new pass replaces the Golden Eagle, Golden Age, and the Golden Access Passports, as well as the National Parks Pass, which currently support recreation opportunities on public lands managed by the United States Forest Service, National Park Service, U.S. Fish and Wildlife Service, Bureau of Land Management, and the Bureau of Reclamation.

Sales of the new pass are scheduled to begin in January 2007. The new pass will be sold at Federal recreation sites that charge entrance and standard amenity fees. The pass will also be available through links on government Web sites including creation.gov and through select third-party vendors.

FOR FURTHER INFORMATION CONTACT: For more information on the availability, price, and use of the new pass, after January 1, 2007 please visit http://www.recreation.gov or call 1-888-AskUSGS (1-888-275-8747), option 1.

Dated: November 22, 2006.
Thomas Weimer,
U.S. Department of the Interior, Assistant Secretary—Policy, Management and Budget.
Dated: December 12, 2006.
Dave Tenney,
U.S. Department of Agriculture, Deputy Under Secretary for Forestry, Natural Resources and Environment.

[FR Doc. 06-9767 Filed 12-18-06; 8:45 am]

BILLING CODE 4310-RK-M